DEPARTMENT OF COMMERCE

National Oceanic and Atmospheric Administration

RIN 0648-XA772

Marine Mammals; File No. 16685

AGENCY: National Marine Fisheries Service (NMFS), National Oceanic and Atmospheric Administration (NOAA), Commerce.

ACTION: Notice; receipt of application.

SUMMARY: Notice is hereby given that Thomas A. Jefferson, PhD, Clymene Enterprises, 5495 Camino Playa Malaga, San Diego, CA 92124, has applied in due form for a permit to conduct research on nine cetacean species off the California coast.

DATES: Written, telefaxed, or e-mail comments must be received on or before November 23, 2011.

ADDRESSES: The application and related documents are available for review by selecting “Records Open for Public Comment” from the Features box on the Applications and Permits for Protected Species (APPS) home page, https://apps.nmfs.noaa.gov, and then selecting File No. 16685 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Laura Morse or Carrie Hubard, (301) 427-8401.

SUPPLEMENTARY INFORMATION: The subject permit is requested under the authority of the Marine Mammal Protection Act of 1972, as amended (MMPA; 16 U.S.C. 1361 et seq.), and the regulations governing the taking and importing of marine mammals (50 CFR part 216).

The proposed permit would authorize research on the population biology and the impacts of Navy training operations on California stocks of nine cetacean species including bottlenose (Tursiops truncatus), Risso's (Grampus griseus), short-beaked common (Delphinus delphis), long-beaked common (D. capensis), Pacific white-sided (Lagenorhynchus obliquidens), and northern right whale dolphins (Lissodelphis borealis); killer whale (Orcinus orca, excluding Southern resident stock); Dall's porpoise (Phocoenoides dalli) and harbor porpoise (Phocoena phocoena). The study would also examine impacts of persistent organic pollutants (POPs) in coastal bottlenose dolphins along the California coast. Research would occur primarily in the waters of the Southern California Bight (San Diego area), Monterey Bay, and San Francisco Bay areas. For each stock, up to 2,400 individuals may be approached annually for photo-identification and behavioral studies and up to 60 individuals may be biopsy sampled over the life of the permit. The permit would be valid for a period of five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 19, 2011.
P. Michael Payne,
Chief, Permits and Conservation Division, Office of Protected Resources, National Marine Fisheries Service.

[FR Doc. 2011-27472 Filed 10-21-11; 8:45 am]

BILLING CODE 3510-22-P